DEPARTMENT OF STATE

[Public Notice 7189]

Determination Concerning the Bolivian Military and Police Under the Department of State, Foreign Operations, and Related Programs Appropriations Act, 2010

Pursuant to the authority vested in the Secretary of State, including under the heading “International Narcotics Control and Law Enforcement” of the Department of State, Foreign Operations, and Related Programs Appropriations Act, 2010 (Div. F, Pub. L. 111-117), I hereby determine that the Government of Bolivia is investigating, prosecuting, and punishing military and police personnel who have been credibly alleged to have violated internationally recognized human rights.

This Determination shall be transmitted to the Congress and published in the Federal Register.

Dated: September 17, 2010.
Hillary Rodham Clinton,
Secretary of State.

[FR Doc. 2010-24418 Filed 9-28-10; 8:45 am]

BILLING CODE 4710-29-P